DEPARTMENT OF COMMERCE

International Trade Administration

[A-533-810]

Stainless Steel Bar From India: Final Results of Antidumping Duty Administrative Review; 2014-2015

AGENCY: Enforcement and Compliance, International Trade Administration, Department of Commerce.

SUMMARY: On March 10, 2016, the Department of Commerce (the Department) published the preliminary results of the administrative review of the antidumping duty order on stainless steel bar (SSB) from India. The period of review (POR) is February 1, 2014, through January 31, 2015. Based on comments received from interested parties, we have made changes to the preliminary results. The final dumping margin for this review is listed in the “Final Results of the Review” section below.

DATES: Effective September 8, 2016.

FOR FURTHER INFORMATION CONTACT: Joseph Shuler, AD/CVD Operations, Office I, Enforcement and Compliance, International Trade Administration, U.S. Department of Commerce, 1401 Constitution Avenue NW., Washington, DC 20230; telephone (202) 482-1293.

SUPPLEMENTARY INFORMATION:

Background

Following the Preliminary Results,¹ the Department issued an additional supplemental questionnaire to Bhansali Bright Bars Pvt. Ltd. (Bhansali) on March 20, 2015, and received a response on April 2, 2015.² We received timely filed case and rebuttal briefs from Bhansali and North American Stainless and Valbruna Slater Stainless, Inc. (the petitioners) and a case brief from Ambica Steels Limited (Ambica).³

¹ See Stainless Steel Bar From India: Preliminary Results, and Rescission, in Part, of Antidumping Duty Administrative Review; 2014-2015, 81 FR 12694 (March 10, 2016) (Preliminary Results).

² See Letter from the Department to Bhansali, “Antidumping Duty Administrative Review of Stainless Steel Bar from India: Second Section D Supplemental Questionnaire,” dated March 25, 2016; see also Letter from Bhansali, “Bhansali Bright Bars Private Limited 2nd Supplemental Response to Section D of Antidumping Duty Questionnaire,” dated April 8, 2016.

³ See Letter from the petitioners to the Department, “Petitioners' Case Brief,” (Petitioner's CB), April 14, 2016; see also, letter from Bhansali to the Department, “Certain Stainless Steel Bar Product from India: Bhansali's Case Brief,” (Bhansali's CB), April 14, 2016; see also, letter from Ambica to the Department, “Stainless Steel Bar from India: Ambica Steels Ltd Case Brief,” (Ambica's CB), April 14, 2016; see also letter from the petitioners to the Department, “Petitioners' Rebuttal Brief,” (Petitioners' RB), April 25, 2016; see also, letter from Bhansali to the Department, “Stainless Steel Bar from India: Bhansali Bright Bars Private Limited's (Bhansali) Rebuttal Brief dated May 11, 2015,” (Bhansali's RB), April 28, 2016.

Scope of the Order

The merchandise subject to the order is SSB. The SSB subject to the order is currently classifiable under subheadings 7222.10.00, 7222.11.00, 7222.19.00, 7222.20.00, 7222.30.00 of the Harmonized Tariff Schedule of the United States (HTSUS). The HTSUS subheadings are provided for convenience and customs purposes. The written description is dispositive.⁴

⁴ For a full description of the scope of the order, see the memorandum from Christian Marsh, Deputy Assistant Secretary for Antidumping and Countervailing Duty Operations, to Paul Piquado, Assistant Secretary for Enforcement and Compliance, “Issues and Decision Memorandum for the Final Results of the Antidumping Duty Administrative Review of Stainless Steel Bar from India” dated concurrently with this notice (Issues and Decision Memorandum), which is hereby adopted by this notice.

Analysis of Comments Received

All issues raised in the case and rebuttal briefs are addressed in the Issues and Decision Memorandum, which is incorporated herein by reference. A list of the issues which parties raised, and to which we respond in the Issues and Decision Memorandum, is attached to this notice as an Appendix. The Issues and Decision Memorandum is a public document and is on file electronically via Enforcement and Compliance's Antidumping and Countervailing Duty Centralized Electronic Service System (ACCESS). ACCESS is available to registered users at https://access.trade.gov/login.aspx, and it is available to all parties in the Central Records Unit, room B8024 of the main Department of Commerce building. In addition, a complete version of the Issues and Decision Memorandum can be accessed directly on the internet at http://enforcement.trade.gov/frn/index.html. The signed Issues and Decision Memorandum and the electronic versions of the Issues Decision Memorandum are identical in content.

Changes Since the Preliminary Results

Based on our analysis of the comments received, we have made certain changes since the Preliminary Results. For a discussion of these changes, see the Issues and Decision Memorandum.

Final Results of the Review

As a result of this review, we determine the following weighted-average dumping margin exists for the respondents for the period February 1, 2014, through January 31, 2015.

Producer/exporter | Weighted- average dumping margin (percent)
Bhansali Bright Bars Pvt. Ltd | 0.00
Ambica Steels Limited | 0.00

Assessment Rates

Upon completion of the administrative review, the Department shall determine, and CBP shall assess, antidumping duties on all appropriate entries in accordance with 19 CFR 351.212(b)(1). The respondents' weighted-average dumping margin in these final results is zero percent. Therefore, we will instruct CBP to liquidate all appropriate entries without regard to antidumping duties. The Department intends to issue the appropriate assessment instructions for Ambica and Bhansali to CBP 15 days after the date of publication of these final results.

The Department clarified its “automatic assessment” regulation on May 6, 2003. This clarification will apply to entries of subject merchandise during the POR produced by Ambica and Bhansali for which it did not know its merchandise was destined for the United States. In such instances, we will instruct CBP to liquidate unreviewed entries at the all-others rate if there is no rate for the intermediate companies involved in the transaction. For a full discussion of this clarification, see Antidumping and Countervailing Duty Proceedings: Assessment of Antidumping Duties, 68 FR 23954 (May 6, 2003).

Cash Deposit Requirements

The following deposit requirements will be effective upon publication of the notice of final results of administrative review for all shipments of subject merchandise entered, or withdrawn from warehouse, for consumption on or after the date of publication as provided by section 751(a)(2) of the Act: (1) The cash deposit rates for Ambica and Bhansali will be the rates established in the final results of this administrative review; (2) for merchandise exported by manufacturers or exporters not covered in this review but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the most recently completed segment of this proceeding for the manufacturer of subject merchandise; and (4) the cash deposit rate for all other manufacturers or exporters will continue to be 12.45 percent, the “all others” rate established in the order.⁵ These cash deposit requirements, when imposed, shall remain in effect until further notice.

⁵ See Notice of Final Determination of Sales at Less Than Fair Value: Stainless Steel Bar from India, 59 FR 66915, 66921 (December 28, 1994).

Disclosure

We intend to disclose the calculations performed for these final results of review within five days of the date of publication of this notice in the Federal Register in accordance with 19 CFR 351.224(b).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

These final results of administrative review are issued and published in accordance with sections 751(a)(1) and 777(i)(1) of the Act.

Dated: September 1, 2016.
Paul Piquado,
Assistant Secretary for Enforcement and Compliance.

Appendix

List of Issues Discussed in the Issues and Decision Memorandum

I. Summary

II. Background

III. Changes Since the Preliminary Results

IV. Scope of the Order

V. Discussion of the Issues

Comment 1: Whether to Name Respondents' Customers in Final Liquidation Instructions

Comment 2: Whether Bhansali is an Uncooperative Respondent

Comment 3: Whether the Department Should Accept Bhansali's Sales and Cost Data

Comment 4: Whether the Department Properly Handled the Billing Adjustments in the Preliminary Results

VI. Recommendation

[FR Doc. 2016-21656 Filed 9-7-16; 8:45 am]

BILLING CODE 3510-DS-P